FEDERAL COMMUNICATIONS COMMISSION

47 CFR Part 73

[DA 04-87; MB Docket No. 03-26; RM-10638]

Radio Broadcasting Services; Shawnee and Topeka, KS

AGENCY: Federal Communications Commission.

ACTION: Final rule.

SUMMARY: The Audio Division, at the request of Cumulus Licensing Corp., licensee of FM Station KMAJ, Channel 299C, Topeka, Kansas, removes Channel 299C at Topeka, Kansas, from the FM Table of Allotments, allots Channel 299C1 at Shawnee, Kansas, as the community's first local FM service, and modifies the license of FM Station KMAJ to specify operation on Channel 299C1 at Shawnee. Channel 299C1 can be allotted to Shawnee, Kansas, in compliance with the Commission's minimum distance separation requirements with a site restriction of 41.3 km (25.6 miles) west of Shawnee. The coordinates for Channel 299C1 at Shawnee, Kansas, are 39°09′06″ North Latitude and 95°09′28″ West Longitude.

DATES: Effective March 8, 2004.

FOR FURTHER INFORMATION CONTACT: Deborah Dupont, Media Bureau, (202) 418-2180.

SUPPLEMENTARY INFORMATION: This is a synopsis of the Commission's Report and Order, MB Docket No. 03-26, adopted January 20, 2004, and released January 23, 2004. The full text of this Commission decision is available for inspection and copying during normal business hours in the FCC Information Center, Portals II, 445 12th Street, SW., Room CY-A257, Washington, DC 20554. The complete text of this decision may also be purchased from the Commission's duplicating contractor, Qualex International, Portals II, 445 12th Street, SW., Room CY-B402, Washington, DC 20554, (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Kansas, is amended by adding Shawnee, Channel 299C1 and by removing Channel 299C at Topeka.

Federal Communications Commission
John A. Karousos,
Assistant Chief, Audio Division, Media Bureau.

[FR Doc. 04-2839 Filed 2-9-04; 8:45 am]

BILLING CODE 6712-01-P